DEPARTMENT OF VETERANS AFFAIRS

Research Advisory Committee on Gulf War Veterans' Illnesses, Notice of Meeting

The Department of Veterans Affairs (VA) gives notice under the Federal Advisory Committee Act, 5 U.S.C. App.2, that the Research Advisory Committee on Gulf War Veterans' Illnesses will meet by teleconference on November 18, 2020. The open session will convene at 11:00 a.m. (EST) and end at 2:00 p.m. (EST). The open session will be available to the public by dialing the toll-free telephone number for audio 800 767-1750; access code 56978# and connecting to Adobe Connect URL for visual: http://va-eerc-ees.adobeconnect.com/racgwvi-nov2020/.

The purpose of the Committee is to provide advice and make recommendations to the Secretary of Veterans Affairs on proposed research studies, research plans, and research strategies relating to the health consequences of military service in the Southwest Asia Theater of operations during the Gulf War in 1990-1991.

The Committee will review VA program activities related to Gulf War Veterans' illnesses and updates on relevant scientific research published since the last Committee meeting. This meeting will include discussion of the recent VA-DoD Gulf War Illness State of the Science Conference held August 18-19, 2020 and how best to build on the current research provided during the program and recommend next steps. There will also be a discussion of other Committee training, business and activities, including review of meeting dates for the parent Committee and Veteran engagement session subcommittee for the next fiscal year.

The meeting will include time reserved for public comments 30 minutes before the meeting closes. Individuals who wish to address the Committee may submit a 1-2 page summary of their comments for inclusion in the official meeting record. Members of the public may submit written statements for the Committee's review or seek additional information by contacting Dr. Karen Block, Designated Federal Officer, at 202 443-5600, or at karen.block@va.gov.

Dated: October 23, 2020.
LaTonya L. Small,
Federal Advisory Committee Management Officer.

[FR Doc. 2020-23912 Filed 10-28-20; 8:45 am]

BILLING CODE 8320-01-P